FEDERAL ELECTION COMMISSION

Sunshine Act Notices

Date AND Time: Thursday, December 6, 2007, a closed meeting will be held at the conclusion of the open meeting.

Place: 999 E Street, NW., Washington, DC. This meeting will be closed to the public.

Items to be Discussed:

Compliance matters pursuant to 2 U.S.C. 437g.

Audits conducted pursuant to 2 U.S.C. 437g, § 438(b), and Title 26, U.S.C.

Matters concerning participation in civil actions or proceedings or arbitration.

Internal personnel rules and procedures or matters affecting a particular employee.

Date AND Time: Thursday, December 6, 2007, at 10 a.m.

Place: 999 E Street, NW., Washington, DC (Ninth Floor).

Status: This meeting will be open to the public.

Items to be Discussed:

Correction and Approval of Minutes.

FEC Service Awards.

Draft Advisory Opinion 2007-23: Independence Party of New York, by A. Joshua Ehrlich, Esq.

Draft Advisory Opinion 2007-24: Jim Burkee/Jeff Walz.

Draft Advisory Opinion 2007-25: Holland & Knight, LLP, by Christopher DeLacy, Esq.

Draft Advisory Opinion 2007-26: State Representative Aaron Schock and Citizens for Schock, by Donald F. McGahn, II, Esq.

Draft Advisory Opinion 2007-27: ActBlue by Jonathan Zucker, Esq.

Management and Administrative Matters.

PERSON TO CONTACT FOR INFORMATION: Mr. Robert Biersack, Press Officer, Telephone: (202) 694-1220.

Mary W. Dove,
Secretary of the Commission.

[FR Doc. 07-5931 Filed 11-29-07; 2:43 pm]

BILLING CODE 6715-01-M